DEPARTMENT OF COMMERCE

International Trade Administration

[A-351-840]

Certain Orange Juice from Brazil: Initiation of Antidumping Duty Changed Circumstances Review

AGENCY: Import Administration, International Trade Administration, Department of Commerce.

EFFECTIVE DATE: April 29, 2008.

SUMMARY: Tropicana Products, Inc. (Tropicana) has requested that the Department initiate a changed circumstances review to consider partially revoking the order on certain orange juice from Brazil to exclude ultra low pulp orange juice (ULPOJ) pursuant to section 751(b)(1) of the Tariff Act of 1930, as amended (the Act), and 19 CFR 351.216(b) and 351.222(g)(1)(i). In response to this request, the Department of Commerce (the Department) is initiating a changed circumstances review.

FOR FURTHER INFORMATION CONTACT: Elizabeth Eastwood or Henry Almond; AD/CVD Operations, Office 2, Import Administration, International Trade Administration, U.S. Department of Commerce, 14th Street and Constitution Avenue NW, Washington, DC 20230; telephone: (202) 482-3874 or (202) 482-0049, respectively.

SUPPLEMENTARY INFORMATION:

Background

On March 9, 2006, the Department published in the Federal Register an antidumping duty order on certain orange juice from Brazil. See Antidumping Duty Order: Certain Orange Juice from Brazil, 72 FR 12183 (Mar. 9, 2006).

On June 14, 2007, Tropicana requested that the Department initiate a changed circumstances review to consider partially revoking the antidumping duty order on certain orange juice from Brazil to exclude ULPOJ. According to Tropicana, producers accounting for substantially all of the production of the domestic like product have no interest in maintaining the order on ULPOJ.

On July 24, 2007, we requested documentation from Tropicana regarding its industry support assertions and the documentation to support the pulp content of ULPOJ. On January 31, 2008, Tropicana responded to the Department's request for information, providing: 1) letters of support from processors either supporting or not opposing Tropicana's request to exclude ULPOJ from the order; 2) a calculation of the level of industry support; and 3) documentation regarding the pulp content of ULPOJ.

On February 29, 2008, we received comments from Florida Citrus Mutual, A. Duda & Sons, Inc. (doing business as Citrus Belle), and Citrus World, Inc. (collectively, “the petitioners”), regarding Tropicana's request. The petitioners contend that the Department must consider the position of the entire domestic industry (i.e., both processors and growers) when determining the level of industry support, as was done for purposes of the initiation of this proceeding. According to the petitioners, when the growers are considered, there will be an insufficient level of industry support necessary for the Department to partially revoke the order under 19 CFR 351.222(g)(1)(i). In addition, the petitioners note that, contrary to Tropicana's assertion, the U.S. domestic industry is capable of producing ULPOJ. Therefore, the petitioners urge the Department to reject Tropicana's request and not initiate this changed circumstances review.

On March 6, 2008, we requested additional information from Tropicana regarding an incomplete letter contained in its January 31 response. On March 10, 2008, Tropicana submitted the requested information.

Scope of the Order

The scope of this order includes certain orange juice for transport and/or further manufacturing, produced in two different forms: (1) frozen orange juice in a highly concentrated form, sometimes referred to as frozen concentrated orange juice for manufacture (FCOJM); and (2) pasteurized single-strength orange juice which has not been concentrated, referred to as not-from-concentrate (NFC). At the time of the filing of the petition, there was an existing antidumping duty order on frozen concentrated orange juice (FCOJ) from Brazil. See Antidumping Duty Order; Frozen Concentrated Orange Juice from Brazil, 52 FR 16426 (May 5, 1987). Therefore, the scope of this order with regard to FCOJM covers only FCOJM produced and/or exported by those companies which were excluded or revoked from the pre-existing antidumping order on FCOJ from Brazil as of December 27, 2004. Those companies are Cargill Citrus Limitada, Coinbra-Frutesp S.A., Sucocitrico Cutrale, S.A. , Fischer S/A - Agroindustria, and Montecitrus Trading S.A.

Excluded from the scope of the order are reconstituted orange juice and frozen concentrated orange juice for retail (FCOJR). Reconstituted orange juice is produced through further manufacture of FCOJM, by adding water, oils and essences to the orange juice concentrate. FCOJR is concentrated orange juice, typically at 42 Brix, in a frozen state, packed in retail-sized containers ready for sale to consumers. FCOJR, a finished consumer product, is produced through further manufacture of FCOJM, a bulk manufacturer's product.

The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of the order is dispositive.

Initiation of Changed Circumstances Review

Pursuant to section 751(b)(1) of the Act, the Department will conduct a changed circumstances review upon receipt of information concerning, or a request from an interested party for a review of, an antidumping duty order which shows changed circumstances sufficient to warrant a review of the order. In accordance with 19 CFR 351.216(d), the Department finds there is sufficient information to warrant initiating a changed circumstances review. Therefore, pursuant to section 751(b)(1) of the Act and 19 CFR 351.216(d), we are initiating a changed circumstances review to determine whether the Department should partially revoke the order on certain orange juice from Brazil to exclude ULPOJ.

While Tropicana contends that it has sufficient industry support under 19 CFR 351.222(g)(1)(i) for the Department to partially revoke the order to exclude ULPOJ, we note that the petitioners have questioned Tropicana's exclusion of orange growers from the calculation of industry support. We will address the level of industry support for Tropicana's request in the context of this proceeding.

The Department will publish in the Federal Register a notice of preliminary results of changed circumstances review in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e).

This notice is in accordance with section 751(b)(1) of the Act.

Dated: April 23, 2008.
David M. Spooner,
Assistant Secretary for Import Administration.

[FR Doc. E8-9337 Filed 4-28-08; 8:45 am]

BILLING CODE 3510-DS-S